INTERNATIONAL TRADE COMMISSION

[Investigation Nos. 701-TA-556 and 731-TA-1311 (Final) (Remand)]

Truck and Bus Tires From China

Determinations

The United States International Trade Commission (Commission) hereby publishes notice of its final determinations pursuant to the remand ordered by the U.S. Court of International Trade in the antidumping and countervailing duty investigations of truck and bus tires from China. See Diamond Sawblades Manufacturers Coalition v. United States, 626 F.3d 1374 (Fed. Cir. 2010); 19 U.S.C. 1673d(d). On the basis of the Court's remand instructions and the parties' comments, and the record ¹ developed in the subject investigations, the Commission determines, pursuant to the Tariff Act of 1930, that an industry in the United States is materially injured by reason of subject imports of truck and bus tires from China, provided for in subheadings 4011.20.1015 and 4011.20.5020 of the Harmonized Tariff Schedule of the United States, that have been found by the Department of Commerce to be sold in the United States at less than fair value and to be subsidized by the Government of China.²

¹ The record is defined in sec. 207.2(f) of the Commission's Rules of Practice and Procedure (19 CFR 207.2(f)).

² Chairman Johanson and Commissioner Broadbent dissented, finding that an industry in the United States is neither materially injured nor threatened with material injury by reason of the subject imports.

Background

In February 2017, the Commission issued negative determinations in the antidumping and countervailing duty determinations of truck and bus tires from China. Truck and Bus Tires from China, 701-TA-556 and 731-TA-1311 (Final), USITC Pub. 4673 (March 2017). Petitioner, the United Steel, Paper and Forestry, Rubber, Manufacturing, Energy, Allied Industrial and Service Workers International Union, AFL-CIO, CLC, appealed the Commission's negative determinations to the U.S. Court of International Trade. Following briefing and oral argument, the Court, on November 1, 2018, remanded the Commission's determinations for reconsideration by the Commission. United Steel, Paper and Forestry, Rubber, Mfg., Energy, Allied Indus. and Serv. Workers Int'l Union v. United States, Slip Op. 18-151 (Ct. Int'l Trade Nov. 1, 2018).

On January 30, 2019, the Commission on remand issued these affirmative determinations.

By order of the Commission.
Issued: February 12, 2019.
Lisa Barton,
Secretary to the Commission.

[FR Doc. 2019-02602 Filed 2-15-19; 8:45 am]

BILLING CODE 7020-02-P